AGENCY FOR INTERNATIONAL DEVELOPMENT

Senior Executive Services Performance Review Board: Update

AGENCY: Office of Inspector General, U.S. Agency for International Development.

ACTION: Notice.

SUMMARY: This notice is hereby given of the appointment of members of the updated U.S. Agency for International Development, Office of Inspector General's Senior Executive Service (SES) Performance Review Board.

DATES: August 31, 2015.

FOR FURTHER INFORMATION CONTACT: Robert S. Ross, Assistant Inspector General for Management, Office of Inspector General, U.S. Agency for International Development, 1300 Pennsylvania Avenue NW., Room 8.08-029, Washington, DC 20523-8700; telephone 202-712-0010; FAX 202-216-3392; Internet Email address: rross@usaid.gov (for Email messages, the subject line should include the following reference—USAID OIG SES Performance Review Board).

SUPPLEMENTARY INFORMATION: 5 U.S.C. 4314(b)(c) requires each agency to establish, in accordance with regulations prescribed by the Office of Personnel Management at 5 CFR part 430, subpart C and Section 430.307 thereof in particular, one or more SES Performance Review Boards. The board shall review and evaluate the initial appraisal of each USAID OIG senior executive's performance by his or her supervisor, along with any recommendations to the appointing authority relative to the performance of the senior executive. This notice updates the membership of the USAID OIG's SES Performance Review Board as it was last published on December 19, 2014.

Approved: August 31, 2015.

The following have been selected as regular members of the SES Performance Review Board of the U.S. Agency for International Development, Office of Inspector General:

Lisa Risley, Assistant Inspector General for Investigations

Robert S. Ross, Assistant Inspector General for Management

Lisa S. Goldfluss, Legal Counsel

Alvin A. Brown, Deputy Assistant Inspector General for Audit

Melinda Dempsey, Deputy Assistant Inspector General for Audit

Lisa McClennon, Deputy Assistant Inspector General for Investigations

Tricia Hollis, Assistant Inspector General for Management, Department of Treasury

Rodney DeSmet, Deputy Assistant Inspector General for Audit, Department of Agriculture

Frank Rokosz, Deputy Assistant Inspector General for Audit, Department of Housing and Urban Development

Larry Gregg, Associate Inspector General, General Services Administration

Dated: August 28, 2015.
Catherine M. Trujillo,
Acting Deputy Inspector General.

[FR Doc. 2015-22792 Filed 9-9-15; 8:45 am]

BILLING CODE 6116-01-P